DEPARTMENT OF COMMERCE

National Institute of Standards and Technology

Information Collection Activities; Submission to the Office of Management and Budget (OMB) for Review and Approval; Comment Request; CHIPS Pre-application Information Collection

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 12, 2023, during a 60-day comment period. This notice allows for an additional 30 days for public comments.

Agency: National Institute of Standards and Technology (NIST), Commerce.

Title: CHIPS Pre-application Information Collection.

OMB Control Number 0693-0095.

Form Number(s): None.

Type of Request: Regular submission.

Number of Respondents: 140.

Average Hours per Response: 60 hours.

Burden Hours: 8400 hours.

Needs and Uses: Businesses and other entities applying for CHIPS Act funding under the CHIPS Incentive Program may, but are not required to, submit a pre-application via a form available at https://applications.chips.gov/ to obtain feedback before submitting a full application. The pre-application phase creates an opportunity for dialogue between the Department of Commerce and the applicant to ensure the applicant is ready to meet program requirements and address program priorities.

Information to be collected includes:

• A Cover Page with general contact and project information;

• A Project Plan that describes each project expected to be included in the future full application. The project plan should explain how each project satisfies the program description and the evaluation criteria in the CHIPS Incentive Program—Commercial Fabrication Facilities Notice of Funding Opportunity;

• Financial Information summarizing financial information for the applicant and the project(s), as well as a detailed sources and uses of funds, including overview of CHIPS incentive request;

• Workforce Development Information describing the applicant's approach to recruit, train, and retain a diverse and skilled set of workers to fill the good jobs that will be created to operate its semiconductor facilities.

Affected Public: Business or other for-profit organizations.

Frequency: Once.

Respondent's Obligation: Voluntary.

Legal Authority: CHIPS Act of 2022 (Division A of Pub. L. 117-167) (the Act).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0693-0095.

Sheleen Dumas,
Department PRA Clearance Officer, Office of the Under Secretary for Economic Affairs, Commerce Department.

[FR Doc. 2023-20937 Filed 9-25-23; 8:45 am]

BILLING CODE 3510-13-P